DEPARTMENT OF JUSTICE

Notice of Lodging of Proposed Consent Decree Under the Comprehensive Environmental Response, Compensation, and Liability Act (CERCLA), the Clean Water Act (CWA), and the Oil Pollution Act (OPA)

On September 22, 2016, the Department of Justice lodged a proposed consent decree with the United States District Court for the Western District Washington in the lawsuit entitled United States of America et al. v. City of Seattle, Civil Action No. 16-1486 (W.D. Wa.)

The complaint asserts claims for natural resource damages by the United States on behalf of the National Oceanic and Atmospheric Administration and the Department of the Interior; the State of Washington; the Suquamish Tribe; and the Muckleshoot Indian Tribe (the Natural Resource Trustees) pursuant to the section 107(a) of the Comprehensive Environmental Response, Compensation, and Liability Act (CERCLA), 42 U.S.C. 9607(a); section 311 of the Clean Water Act (CWA), 33 U.S.C. 1321; section 1002(b) of the Oil Pollution Act (OPA), 33 U.S.C. 2702(b); and the Washington Model Toxics Control Act (MTCA), RCW 70.105D.

The proposed consent decree settles claims for natural resource damages caused by hazardous substances released from City of Seattle facilities along the Duwamish Waterway. Under the proposed consent decree, the City of Seattle will purchase restoration credits in projects approved by the Natural Resource Trustees to create habitat for injured natural resources, including various species of fish and birds. The City of Seattle also will establish conservation easements on a number of parcels along the Lower Duwamish Waterway to ensure that restoration projects constructed on those parcels are preserved, and the City will pay approximately $91,000 of the Trustees' damage assessment costs. The City will also pay Bluefield Holdings, Inc., to operate and maintain a restoration project under the Trustees' oversight, and Bluefield will reimburse the Trustees' future oversight costs for this project. The Natural Resource Trustees will provide the City of Seattle with covenants not to sue under the statutes listed in the complaint and proposed consent decree for specified natural resource damages.

The publication of this notice opens a period for public comment on the proposed consent decree. Comments should be addressed to the Assistant Attorney General, Environment and Natural Resources Division, and should refer to United States of America et al. v. City of Seattle, D.J. Ref. No. 90-11-3-07227/2. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $54.00 (25 cents per page reproduction cost) payable to the United States Treasury. Alternatively, to obtain a copy of only the main body of the proposed consent decree, excluding appendices, please enclose a check or money order for $19.50.

Susan M. Akers,
Assistant Section Chief, Environmental Enforcement Section, Environment and Natural Resources Division.

[FR Doc. 2016-23378 Filed 9-27-16; 8:45 am]

BILLING CODE 4410-15-P